DEPARTMENT OF HOMELAND SECURITY

U.S. Citizenship and Immigration Services

[CIS No. 2528-12; DHS Docket No. USCIS-2012-0016]

RIN 1615-ZB18

Extension of the Designation of Honduras for Temporary Protected Status

AGENCY: U.S. Citizenship and Immigration Services, Department of Homeland Security.

ACTION: Notice.

SUMMARY: This Notice announces that the Secretary of Homeland Security (Secretary) is extending the designation of Honduras for Temporary Protected Status (TPS) for 18 months from July 6, 2013 through January 5, 2015.

The extension allows currently eligible TPS beneficiaries to retain TPS through January 5, 2015. The Secretary has determined that an extension is warranted because the conditions in Honduras that prompted the TPS designation continue to be met. There continues to be a substantial, but temporary, disruption of living conditions in Honduras resulting from Hurricane Mitch, and Honduras remains unable, temporarily, to handle adequately the return of its nationals.

This Notice also sets forth procedures necessary for nationals of Honduras (or aliens having no nationality who last habitually resided in Honduras) to re-register for TPS and to apply for renewal of their Employment Authorization Documents (EADs) with U.S. Citizenship and Immigration Services (USCIS). Re-registration is limited to persons who have previously registered for TPS under the designation of Honduras and whose applications have been granted. Certain nationals of Honduras (or aliens having no nationality who last habitually resided in Honduras) who have not previously applied for TPS may be eligible to apply under the late initial registration provisions, if they meet: (1) at least one of the late initial filing criteria and (2) all TPS eligibility criteria (including continuous residence in the United States since December 30, 1998, and continuous physical presence in the United States since January 5, 1999).

For individuals who have already been granted TPS under the Honduras designation, the 60-day re-registration period runs from April 3, 2013 through June 3, 2013. USCIS will issue new EADs with a January 5, 2015 expiration date to eligible Honduran TPS beneficiaries who timely re-register and apply for EADs under this extension.

Given the timeframes involved with processing TPS re-registration applications, the Department of Homeland Security (DHS) recognizes that all re-registrants may not receive new EADs until after their current EADs expire on July 5, 2013. Accordingly, this Notice automatically extends the validity of EADs issued under the TPS designation of Honduras for 6 months, from July 5, 2013 through January 5, 2014, and explains how TPS beneficiaries and their employers may determine which EADs are automatically extended and their impact on Employment Eligibility Verification (Form I-9) and the E-Verify processes.

DATES: The 18-month extension of the TPS designation of Honduras is effective July 6, 2013, and will remain in effect through January 5, 2015. The 60-day re-registration period runs from April 3, 2013 through June 3, 2013.

FOR FURTHER INFORMATION CONTACT:

• For further information on TPS, including guidance on the application process and additional information on eligibility, please visit the USCIS TPS Web page at http://www.uscis.gov/tps. You can find specific information about this extension of Honduras for TPS by selecting “TPS Designated Country: Honduras” from the menu on the left of the TPS Web page.

• You can also contact the TPS Operations Program Manager at the Family and Status Branch, Service Center Operations Directorate, U.S. Citizenship and Immigration Services, Department of Homeland Security, 20 Massachusetts Avenue, NW., Washington, DC 20529-2060; or by phone at (202) 272-1533 (this is not a toll-free number). Note: The phone number provided here is solely for questions regarding this TPS notice. It is not for individual case status updates.

• Applicants seeking information about the status of their individual cases can check Case Status Online, available at the USCIS Web site at http://www.uscis.gov, or call the USCIS National Customer Service Center at 800-375-5283 (TTY 800-767-1833). Service is available in English and Spanish.

• Further information will also be available at local USCIS offices upon publication of this Notice.

SUPPLEMENTARY INFORMATION:

Abbreviations and Terms Used in This Document

BIA—Board of Immigration Appeals

DHS—Department of Homeland Security

DOS—Department of State

EAD—Employment Authorization Document

Government—U.S. Government

IJ—Immigration Judge

INA—Immigration and Nationality Act

OSC—U.S. Department of Justice, Office of Special Counsel for Immigration-Related Unfair Employment Practices

SAVE—USCIS Systematic Alien Verification for Entitlements Program

Secretary—Secretary of Homeland Security

TPS—Temporary Protected Status

UN—United Nations

USCIS—U.S. Citizenship and Immigration Services

What is Temporary Protected Status (TPS)?

• TPS is a temporary immigration status granted to eligible nationals of a country designated for TPS under the Immigration and Nationality Act (INA), or to eligible persons without nationality who last habitually resided in the designated country.

• During the TPS designation period, TPS beneficiaries are eligible to remain in the United States and may obtain work authorization, so long as they continue to meet the requirements of TPS status.

• TPS beneficiaries also may be granted travel authorization as a matter of discretion.

• The granting of TPS does not lead to permanent resident status.

• When the Secretary terminates a country's TPS designation, beneficiaries return to the same immigration status they maintained before TPS, if any (unless that status has since expired or been terminated), or to any other lawfully obtained immigration status they received while registered for TPS.

When was Honduras designated for TPS?

On January 5, 1999, the Attorney General designated Honduras for TPS based on an environmental disaster within that country, specifically the devastation resulting from Hurricane Mitch. See 64 FR 524; section 244(b)(1)(B) of the INA, 8 U.S.C. 1254a(b)(1)(B). The Secretary last extended the designation of Honduras for TPS on November 4, 2011 based on her determination that the conditions warranting the designation continued to be met. See 76 FR 68488. This announcement is the eleventh extension of TPS for Honduras since the original designation in 1999.

What authority does the Secretary of Homeland Security have to extend the designation of Honduras for TPS?

Section 244(b)(1) of the INA, 8 U.S.C. 1254a(b)(1), authorizes the Secretary, after consultation with appropriate Government agencies, to designate a foreign state (or part thereof) for TPS.¹ The Secretary may then grant TPS to eligible nationals of that foreign state (or aliens having no nationality who last habitually resided in that state). See section 244(a)(1)(A) of the INA, 8 U.S.C. 1254a(a)(1)(A).

¹ As of March 1, 2003, in accordance with section 1517 of title XV of the Homeland Security Act of 2002 (HSA), Public Law 107-296, 116 Stat. 2135, any reference to the Attorney General in a provision of the INA describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See section 244(b)(3)(A) of the INA, 8 U.S.C. 1254a(b)(3)(A). If the Secretary determines that a foreign state continues to meet the conditions for TPS designation, the designation is extended for an additional 6 months (or in the Secretary's discretion for 12 or 18 months). See section 244(b)(3)(C) of the INA, 8 U.S.C. 1254a(b)(3)(C). If the Secretary determines that the foreign state no longer meets the conditions for TPS designation, the Secretary must terminate the designation. See section 244(b)(3)(B) of the INA, 8 U.S.C. 1254a(b)(3)(B).

Why is the Secretary extending the TPS designation for Honduras for TPS through January 5, 2015?

Over the past year, DHS and the Department of State (DOS) have continued to review conditions in Honduras. Based on this review and after consulting with DOS, the Secretary has determined that an 18-month extension is warranted because the disruption in living conditions in affected areas of Honduras resulting from the environmental disaster that prompted the January 5, 1999 designation persist.

In October 1998, Hurricane Mitch caused the loss of thousands of lives, displacement of thousands more, collapse of physical infrastructure, and severe damage to the country's economic system. See also 64 FR 524 (Jan. 5, 1999) (Mitch “caus[ed] severe flooding and associated damage in Honduras”). Despite some recovery, the government and people of Honduras continue to rely heavily on international assistance, and recovery from Hurricane Mitch is still incomplete.

Hurricane Mitch brought 250-kilometer-per-hour winds and torrential rains that damaged all eighteen of Honduras's departments. The storm affected in some way nearly 1.5 million people, killing approximately 5,600 and injuring approximately 12,000, and leaving thousands homeless. In northern Honduras, 25 small villages were swept away. It was estimated that 70 percent of crops were destroyed. The medical response was compromised given that 123 health centers and 23 out of the country's 28 hospitals were damaged. 20 to 25 percent of educational establishments were also damaged. Although the international community quickly responded with reconstruction and recovery efforts have been implemented, the United Nations (UN) Development Programme states that Hurricane Mitch set Honduras back economically and socially by more than 20 years.

There has been some recovery in Honduras from the extensive damage caused by Hurricane Mitch. However, reconstruction efforts are still ongoing. According to Honduras's Social Fund for Housing and local government figures, Hurricane Mitch damaged or destroyed approximately 85,000 homes; however, the Honduran Secretary of Health estimated nearly 149,000 homes were damaged or destroyed. While foreign aid has enabled the completion of various housing projects, other international aid destined for housing projects remain ongoing. For example, projects to address housing shortages funded by a $30 million loan approved by the Inter-American Development Bank in 2006 remain in the implementation phase. In addition, despite expansion of electrical services in Honduras, only half of the rural population currently has access to electricity.

Hurricane Mitch destroyed an estimated 60 to 70 percent of road infrastructure. While the road network has been restored, transport infrastructure remains basic and vulnerable to further damage from adverse climactic conditions. The World Bank continues to fund road improvement projects in Honduras, including a May 2009 loan for road rehabilitation and improvement. As of January 2013, this project remains active.

Landslides and floods caused by Hurricane Mitch damaged both the potable water distribution systems and sewage treatment facilities in urban and rural Honduras. This posed serious health risks to the population. The international community responded to the situation with funds designated for water and sanitation projects. Although there has been improvement, projects are still ongoing. For example, a World Bank project that began in June 2007 is not scheduled to be completed until December 2013. To date, water sources continue to be threatened by deforestation and erosion, and Honduras's largest source of fresh water (the Lago de Yojoa) is heavily polluted.

Subsequent natural disasters have plagued Honduras and exacerbated conditions caused by Hurricane Mitch, making it difficult to assess the status of Hurricane Mitch-related reconstruction projects. Since Hurricane Mitch, a series of natural disasters (such as tropical storms, other hurricanes, and earthquakes) have plagued Honduras, resulting in additional floods, damaged infrastructure, and loss of life. Most recently, Honduras suffered a drought in June 2012, and both a tropical depression and tropical storm in 2011. These natural disasters have compounded the initial devastation and substantial disruption of living conditions caused by Hurricane Mitch. Honduras has endured severe, continuing, and sustained damage to its infrastructure and is considered one of the poorest and most vulnerable countries in the world. Accordingly, the conditions caused by Hurricane Mitch continue to exist.

Based upon this review and after consultation with appropriate Government agencies, the Secretary finds that:

• The conditions that prompted the January 5, 1999 designation of Honduras for TPS continue to be met. See sections 244(b)(3)(A) and (C) of the INA, 8 U.S.C. 1254a(b)(3)(A) and (C).

• There continues to be a substantial, but temporary, disruption in living conditions in Honduras as a result of an environmental disaster. See section 244(b)(1)(B) of the Act, 8 U.S.C. 1254a(b)(1)(B).

• Honduras continues to be unable, temporarily, to handle adequately the return of its nationals (or aliens having no nationality who last habitually resided in Honduras). See section 244(b)(1)(B) of the Act, 8 U.S.C. 1254a(b)(1)(B).

• The designation of Honduras for TPS should be extended for an additional 18-month period from July 6, 2013 through January 5, 2015. See section 244(b)(3)(C) of the INA, 8 U.S.C. 1254a(b)(3)(C).

• There are approximately 64,000 current Honduras TPS beneficiaries who are expected to be eligible to re-register for TPS under the extension.

Notice of Extension of the TPS Designation of Honduras

By the authority vested in me as Secretary under section 244 of the INA, 8 U.S.C. 1254a, I have determined, after consultation with the appropriate Government agencies that the conditions that prompted the designation of Honduras for TPS on January 5, 1999, continue to be met. See section 244(b)(3)(A) of the INA, 8 U.S.C. 1254a(b)(3)(A). On the basis of this determination, I am extending the existing TPS designation of Honduras for 18 months from July 6, 2013 through January 5, 2015.

Janet Napolitano,
Secretary.

Required Application Forms and Application Fees to Register or Re-register for TPS

To register or re-register for TPS for Honduras, an applicant must submit each of the following two applications:

1. Application for Temporary Protected Status (Form I-821).

• If you are filing an application for late initial registration, you must pay the fee for the Application for Temporary Protected Status (Form I-821). See 8 CFR 244.2(f)(2) and 244.6 and information on late initial filing on the USCIS TPS Web page at http://www.uscis.gov/tps.

• If you are filing an application for re-registration, you do not need to pay the fee for the Application for Temporary Protected Status (Form I-821). See 8 CFR 244.17.

and

2. Application for Employment Authorization (Form I-765).

• If you are applying for late initial registration and want an EAD, you must pay the fee for Application for the Employment Authorization (Form I-765) only if you are age 14 through 65. No fee for the Application for Employment Authorization (Form I-765) is required if you are under the age of 14 or 66 and older and applying for late initial registration.

• If you are applying for re-registration, you must pay the fee for the Application for Employment Authorization (Form I-765) only if you want an EAD.

• You do not pay the fee for the Application for Employment Authorization (Form I-765) if you are not requesting an EAD, regardless of whether you are applying for late initial registration or re-registration.

You must submit both completed application forms together. If you are unable to pay for the application and/or biometrics fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Refiling a Re-registration TPS Application After Receiving a Denial of a Fee Waiver Request

USCIS urges all re-registering applicants to file as soon as possible within the 60-day re-registration period so that USCIS can process the applications and issue EADs promptly. Filing early will also allow those applicants who may receive denials of their fee waiver requests to have time to refile their applications before the re-registration deadline. If, however, an applicant receives a denial of his or her fee waiver request and is unable to refile by the re-registration deadline, the applicant may still refile his or her application. This situation will be reviewed under good cause for late re-registration. However, applicants are urged to refile within 45 days of the date on their USCIS fee waiver denial notice, if at all possible. See section 244(c)(3)(C) of the INA; 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible.

Mailing Information

Mail your application for TPS to the proper address in Table 1.

Table 1—Mailing Addresses
If . . . | Mail to . . .
You are applying through the U.S. Postal Service | USCIS, P.O. Box 6943, Chicago, IL 60680-6943.
You are using a non-U.S. Postal Service delivery service | USCIS, Attn: TPS Honduras, 131 S. Dearborn 3rd Floor, Chicago, IL 60603-5517.

If you were granted TPS by an Immigration Judge (IJ) or the Board of Immigration Appeals (BIA), and you wish to request an EAD or are re-registering for the first time following a grant of TPS by the IJ or BIA, please mail your application to the appropriate address in Table 1 above. Upon receiving a Receipt Notice from USCIS, please send an email to TPSijgrant.vsc@uscis.dhs.gov with the receipt number and state that you submitted a re-registration and/or request for an EAD based on an IJ/BIA grant of TPS. You can find detailed information on what further information you need to email and the email addresses on the USCIS TPS Web page at http://www.uscis.gov/tps.

E-Filing

If you are re-registering for TPS during the re-registration period and you do not need to submit any supporting documents or evidence, you are eligible to file your applications electronically. For more information on e-filing, please visit the USCIS E-Filing Reference Guide at the USCIS Web site at http://www.uscis.gov.

Employment Authorization Document (EAD)

May I request an interim EAD at my local USCIS office?

No. USCIS will not issue interim EADs to TPS applicants and re-registrants at local offices.

Am I eligible to receive an automatic 6 month extension of my current EAD from July 5, 2013 through January 5, 2014?

Provided that you currently have TPS under the Honduras designation, this notice automatically extends your EAD by 6 months if you:

• Are a national of Honduras (or an alien having no nationality who last habitually resided in Honduras);

• Received an EAD under the last extension or re-designation of TPS for Honduras; and

• Have an EAD with a marked expiration date of July 5, 2013, bearing the notation “A-12” or “C-19” on the face of the card under “Category.”

Although your EAD is automatically extended through January 5, 2014 by this notice, you must re-register timely for TPS in accordance with the procedures described in this notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). An EAD is an acceptable document under “List A.” Employers may not reject a document based upon a future expiration date.

If your EAD has an expiration date of July 5, 2013, and states “A-12” or “C-19” under “Category”, it has been extended automatically for 6 months by virtue of this Federal Register notice, and you may choose to present your EAD to your employer as proof of identity and employment authorization for Employment Eligibility Verification (Form I-9) through January 5, 2014 (see the subsection below titled “How do I and my employer complete the Employment Eligibility Verification (Form I-9) (i.e., verification) using an automatically extended EAD for a new job?” for further information). To minimize confusion over this extension at the time of hire, you may also show your employer a copy of this Federal Register notice confirming the automatic extension of employment authorization through January 5, 2014. As an alternative to presenting your automatically extended EAD, you may choose to present any other acceptable document from List A, or List B plus List C.

What documentation may I show my employer if I am already employed but my current TPS-related EAD is set to expire?

Even though EADs with an expiration date of July 5, 2013, that state “A-12” or “C-19” under “Category” have been automatically extended for 6 months by virtue of this Federal Register notice, your employer will need to ask you about your continued employment authorization once July 5, 2013 is reached in order to meet its responsibilities for Employment Eligibility Verification (Form I-9). However, your employer does not need a new document to reverify your employment authorization until January 5, 2014, the expiration date of the automatic extension. Instead, you and your employer must make corrections to the employment authorization expiration dates in section 1 and section 2 of the Employment Eligibility Verification (Form I-9) (see the subsection below titled “What corrections should I and my current employer make to the Employment Eligibility Verification (Form I-9) if my EAD has been automatically extended?” for further information). In addition, you may also show this Federal Register notice to your employer to avoid confusion about what to do for the Form I-9.

By January 5, 2014, the expiration date of the automatic extension, your employer must reverify your employment authorization. You must present any document from List A or any document from List C on Employment Eligibility Verification (Form I-9) to reverify employment authorization. Your employer is required to reverify on Employment Eligibility Verification (Form I-9) the employment authorization of current employees no later than the expiration of a TPS-related EAD. Your employer should use either Section 3 of the Form I-9 originally completed for the employee or, if this section has already been completed or if the version of Form I-9 is no longer valid, in Section 3 of a new Form I-9 using the most current version. Note that your employer may not specify which List A or List C document employees must present.

What happens after January 5, 2014 for purposes of employment authorization?

After January 5, 2014, employers may no longer accept the EADs that this Federal Register notice automatically extended. However, before that time, USCIS will issue new EADs to TPS re-registrants. These new EADs will have an expiration date of January 5, 2015 and can be presented to your employer for completion of Employment Eligibility Verification (Form I-9). Alternatively, you may choose to present any other legally acceptable document or combination of documents listed on the Employment Eligibility Verification (Form I-9).

How do I and my employer complete the Employment Eligibility Verification (Form I-9) (i.e., verification) using an automatically extended EAD for a new job?

When using an automatically extended EAD to fill out the Employment Eligibility Verification (Form I-9) for a new job prior to January 5, 2014, you and your employer should do the following:

(1) For Section 1, you should:

a. Check “An alien authorized to work”;

b. Write your alien number (USCIS number or A-number) in the first space (your EAD or other document from DHS will have your USCIS number or A-number printed on it; the USCIS Number is the same as your A-number without the A prefix); and

c. Write the automatic extension date (January 5, 2014) in the second space.

(2) For Section 2, employers should record the:

a. Document title;

b. Document number; and

c. Automatically extended EAD expiration date (January 5, 2014).

No later than January 5, 2014, employers must reverify the employee's employment authorization in Section 3 of the Employment Eligibility Verification (Form I-9).

What corrections should my current employer and I make to the Employment Eligibility Verification (Form I-9) if my EAD has been automatically extended?

If you are an existing employee who presented a TPS-related EAD that was valid when you first started your job, but that EAD has now been automatically extended, you and your employer should correct your previously completed Employment Eligibility Verification (Form I-9) as follows:

(1) For Section 1, you should:

a. Draw a line through the expiration date in the second space;

b. Write “January 5, 2014” above the previous date;

c. Write “TPS Ext.” in the margin of Section 1; and

d. Initial and date the correction in the margin of Section 1.

(2) For Section 2, employers should:

a. Draw a line through the expiration date written in Section 2;

b. Write “January 5, 2014” above the previous date;

c. Write “TPS Ext.” in the margin of Section 2; and

d. Initial and date the correction in the margin of Section 2.

By January 5, 2014, when the automatic extension of EADs expires, employers must reverify the employee's employment authorization in Section 3.

If I am an employer enrolled in E-Verify, what do I do when I receive a “Work Authorization Documents Expiration” alert for an automatically extended EAD?

If you are an employer who participates in E-Verify, you will receive a “Work Authorization Documents Expiring” case alert when a TPS beneficiary's EAD is about to expire. Usually, this message is an alert to complete Section 3 of the Employment Eligibility Verification (Form I-9) to reverify an employee's employment authorization. For existing employees with TPS-related EADs that have been automatically extended, employers should dismiss this alert by clicking the red “X” in the “dismiss alert” column and follow the instructions above explaining how to correct the Employment Eligibility Verification (Form I-9). By January 5, 2014, employment authorization must be reverified in Section 3. Employers should never use E-Verify for reverification.

Can my employer require that I produce any other documentation to prove my status, such as proof of my Honduran citizenship?

No. When completing Employment Eligibility Verification (Form I-9), including reverifying employment authorization, employers must accept any documentation that appears on the “Lists of Acceptable Documents” for Employment Eligibility Verification (Form I-9) and that reasonably appears to be genuine and that relates to you. Employers may not request documentation that does not appear on the “Lists of Acceptable Documents.” Therefore, employers may not request proof of Honduran citizenship when completing Employment Eligibility Verification (Form I-9) for new hires or reverifying the employment authorization of current employees. If presented with EADs that are unexpired on their face, employers should accept such EADs as valid List A documents so long as the EADs reasonably appear to be genuine and to relate to the employee. See below for important information about your rights if your employer rejects lawful documentation, requires additional documentation, or otherwise discriminates against you based on your citizenship or immigration status, or your national origin.

Note to All Employers

Employers are reminded that the laws requiring proper employment eligibility verification and prohibiting unfair immigration-related employment practices remain in full force. This notice does not supersede or in any way limit applicable employment verification rules and policy guidance, including those rules setting forth reverification requirements. For general questions about the employment eligibility verification process, employers may call the USCIS Form I-9 Customer Support at 888-464-4218 (TDD for the hearing impaired is at 877-875-6028). For questions about avoiding discrimination during the employment eligibility verification process, employers may also call the Department of Justice, Office of Special Counsel for Immigration-Related Unfair Employment Practices (OSC) Employer Hotline at 800-255-8155 (TDD for the hearing impaired is at 800-237-2515), which offers language interpretation in numerous languages.

Note to All Employees

For general questions about the employment eligibility verification process, employees may call the USCIS National Customer Service Center at 800-375-5283 (TDD for the hearing impaired is at 800-767-1833); calls are accepted in English and Spanish. Employees or applicants may also call the OSC Worker Information Hotline at 800-255-7688 (TDD for the hearing impaired is at 800-237-2515) for information regarding employment discrimination based upon citizenship, immigration status, or national origin, or for information regarding discrimination related to Employment Eligibility Verification (Form I-9) and E-Verify. The OSC Worker Information Hotline provides language interpretation in numerous languages. In order to comply with the law, employers must accept any document or combination of documents acceptable for Employment Eligibility Verification (Form I-9) completion if the documentation reasonably appears to be genuine and to relate to the employee. Employers may not require extra or additional documentation beyond what is required for Employment Eligibility Verification (Form I-9) completion. Further, employers participating in E-verify who receive an E-verify initial mismatch (“tentative nonconfirmation” or “TNC”) on employees must inform employees of the mismatch and give such employees an opportunity to challenge the mismatch. Employers are prohibited from taking adverse action against such employees based on the initial mismatch unless and until E-Verify returns a final nonconfirmation. For example, employers must allow employees challenging their mismatches to continue to work without any delay in start date or training and without any change in hours or pay while the final E-Verify determination remains pending. Additional information is available on the OSC Web site at http://www.justice.gov/crt/about/osc and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your expired EAD that has been automatically extended, or your EAD that has a valid expiration date;

(2) A copy of this Federal Register notice if your EAD is automatically extended under this notice;

(3) A copy of your Application for Temporary Protected Status Receipt Notice (Form I-797) for this re-registration;

(4) A copy of your past or current Application for Temporary Protected Status Approval Notice (Form I-797), if you receive one from USCIS; and/or

(5) If there is an automatic extension of work authorization, a copy of the fact sheet from the USCIS TPS Web site that provides information on the automatic extension.

Check with the government agency regarding which document(s) the agency will accept. You may also provide the agency with a copy of this notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at http://www.uscis.gov/save, then by choosing “How to Correct Your Records” from the menu on the right.

[FR Doc. 2013-07673 Filed 4-2-13; 8:45 am]

BILLING CODE 9111-97-P